DEPARTMENT OF THE INTERIOR

[AZ 020-2004-1150-JP-123A]

Bureau of Land Management

AGENCY: Bureau of Land Management, Phoenix Field Office, Phoenix, AZ.

ACTION: Notice of intent to amend the Lower Gila South Resource Management Plan (RMP).

SUMMARY: This document provides notice that the Bureau of Land Management (BLM), Phoenix Field Office, intends to prepare an Amendment to the Lower Gila South RMP that will include an environmental assessment level analysis. The plan amendment will consider changing the land use allocation on the Cameron Allotment by closing approximately 58,275 acres of public land to domestic livestock grazing in order to implement measures to conserve the endangered Sonoran pronghorn.

DATES: For a period of 30 days from the date of this notice, interested parties may submit comments to the Bureau of Land Management, Phoenix Field Office, attn: Field Manager, 21605 N. 7th Avenue, Phoenix, AZ 86027.

Public Participation: Public comments received during the 30-day comment period will be considered during the preparation of the proposed plan amendment and environmental assessment level analysis.

ADDRESSES: Field Manager, Bureau of Land Management, Phoenix Field Office, 21605 N. 7th Avenue, Phoenix, AZ 85027; Fax 623-580-5580. For further information, contact Tim Hughes, Phoenix Field Office, 623-580-5572.

SUPPLEMENTARY INFORMATION: The Cameron Allotment is classified as a Perennial-Ephemeral Allotment. The grazing permit for the allotment prior to June of 2003 authorized 2,532 animal unit months (AUMs) or 211 cows yearlong and provided for ephemeral use during wet years. The BLM completed a rangeland health evaluation, biological evaluation, and National Environmental Policy Act (NEPA) analysis for the grazing allotment in 2003. Based on the results of these evaluations, the grazing permit was modified and reissued with new terms and conditions in 2003. The current permit authorizes 684 AUMs or 57 cows, under the following terms and conditions: (1) The allotment will be operated as a rest-rotation grazing system; (2) seasonal restrictions will be imposed on grazing in pronghorn fawning pastures; (3) ephemeral use can only be authorized when the Sonoran pronghorn population is over 100 animals and increasing and there is an abundance of ephemeral forage available throughout the pronghorn range; (4) lay-down fences will be installed and maintained between the BLM lands and Organ Pipe Cactus National Monument and Cabeza Prieta National Wildlife Refuge, and (5) maintenance of range improvements that involves surface disturbance can only be carried out between July 1 and December 31 annually.

The U.S. population of Sonoran pronghorn has experienced an 87 percent decline since 2001. This population is currently vulnerable to extirpation due to low numbers and continued drought. Limited management options on adjacent lands make the public lands that comprise the Cameron Allotment extremely valuable for implementation of recovery actions for the pronghorn. Continued livestock grazing on the Cameron Allotment would require the continued use of fencing for livestock management, which hinders movement of pronghorn. Water impoundments needed by livestock would continue to provide breeding grounds for biting midges that may transmit disease from domestic livestock to pronghorn. Additionally, continued livestock grazing would hinder or preclude implementation of recovery actions, such as the development of food plots.

The BLM is required by the Endangered Species Act of 1973, as amended, in section 7. (a) (1) to “* * * utilize [its] authorities in furtherance of the purposes of this Act by carrying out programs for the conservation of endangered species * * *” Due to the precarious status of the U.S. population of Sonoran pronghorn, it is prudent that the BLM consider actions within their authority to stabilize and recover this endangered species. To that end, it would be consistent with the BLM's authorities and responsibilities to consider closing the Cameron Allotment to domestic livestock grazing and allocate the resources toward the recovery of endangered Sonoran pronghorn.

If a decision is made through the amendment process to use the land for pronghorn recovery, the BLM is required to compensate the permittee for their financial interest in authorized range improvements.

Planning Criteria: This notice also provides the public notice of planning criteria availability. The Federal Land Management Policy and Management Act of 1976 (FLPMA), the Taylor Grazing Act of June 28, 1934, as amended, and the Public Rangelands Improvement Act of 1978 constitute the planning criteria applicable to the proposed amendment to the Lower Gila South RMP.

Teresa Raml,
Field Manager, Phoenix Field Office.

[FR Doc. 04-7462 Filed 4-1-04; 8:45 am]

BILLING CODE 4310-32-P